DEPARTMENT OF COMMERCE

National Oceanic and Atmospheric Administration

RIN: 0648-XU58

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold the following meetings in the Mariana islands: Rota Community Meeting; Tinian Community Meeting, Saipan Community Meeting, Commonwealth of the Northern Mariana Islands (CNMI) Student Symposium, Mariana Archipelago Fishery Ecosystem Plan Team (PT) Meeting, CNMI Regional Ecosystem Advisory Committee (REAC), Guam REAC, Mariana Archipelago Advisory Panel (AP) Meeting, Guam Student Symposium, 103rd Scientific and Statistical Committee (SSC) and 147th Council meetings to take recommendations and action on fishery management issues in the Western Pacific Region.

DATES: The Rota Community meeting to be held March 11, 2010, Tinian Community Meeting to be held March 12, 2010, Saipan Community Meeting and CNMI Student Symposium to be held March 13, 2010, Mariana Archipelago Ecosystem PT to be held March 15, 2010, the CNMI REAC to be held March 16, 2010, the Guam REAC to be held March 18, 2010, the 103rd SSC Meeting to be held March 17-19 2010, Mariana Archipelago AP and Guam Student Symposium to be held March 20, 2010, and the 147th Council meeting to be held March 21-26, 2010. For specific times and agendas, see SUPPLEMENTARY INFORMATION.

ADDRESSES: The CNMI Community Meetings will be held at the Rota Social Hall, Tinian Elementary School Cafeteria and the Fiesta Resort and Spa, Saipan.

The Marianas PT and CNMI REAC meetings will be held at the Multipurpose Center, Saipan. The Marianas AP and Guam REAC meeting will be held at the Guam Hilton.

The CNMI Student Symposium will be held at the Fiesta Resort and Spa, Saipan, and the Guam Student Symposium will be held at the Guam Hilton, Guam.

The 103rd SSC will be held at the Guam Hilton.

The 147th Council meeting will be held at the Fiesta Resort and Spa, Saipan and at the Guam Hilton on Guam.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for Rota, Tinian and Saipan Community Meetings

Rota 3 p.m. - 9 p.m. Thursday, March 11, 2010; Tinian 3 p.m. - 9 p.m. Friday, March 12, 2010; Saipan 3 p.m. - 9 p.m. Saturday, March 13, 2010

The Rota, Tinian and Saipan community meetings will feature a traditional fishing demonstration and discussion of traditional fishing practices from 3 p.m. to 5:30 p.m. The remainder of the meeting will include presentations and discussions on the Mariana Archipelago Lunar Calendar, CNMI Bottomfish Permit Requirement, CNMI Division of Fish and Wildlife Biosampling Program and Community Grant Opportunities. The Council will seek public comment on proposed Management Measures for Non-commercial Fishing in the Marianas Trench Marine National Monument.

Schedule and Agenda for CNMI Student Symposium

9 a.m. - 2 p.m. Saturday, March 13, 2010

The Student Symposium will include presentations on the High School Summer Courses in the Marianas and highlights of the Hawaii and American Samoa courses and videos. Students will be able to participate in an “open house” session to feature information on the Council, traditional fisheries in the Marianas, local fishery agency programs, educational opportunities for students, and fisheries role in the community.

Schedule and Agenda for the Mariana Archipelago Fishery Ecosystem Plan Team Meeting

9 a.m. - 4 p.m. Monday, March 15, 2010

The PT will review the status of 2009 PT recommendations. The PT will discuss and may make recommendations on the Mariana Archipelago Annual Report Modules for bottomfish, coral reef, and crustacean fisheries and on the separation of Coral Reef Ecosystem Management Unit Species and Bottomfish Management Unit Species complexes. Reports will be provided on monitoring activities and projects including, the November 2009 Fishery Data Workshop, NMFS biosampling program, Guam bottomfish biosampling project, CNMI bottomfish regulations and compliance, Mariana Humphead Wrasse Study and coral reef priority setting. The PT will review and make recommendations on the following Council actions:

A. Marianas Trench Monument Non-Commercial Fishing Management Measures

B. Recommendations on a Process for Establishing Annual Catch Limits

C. Recommendations on Framework Measures for Fishery Ecosystem Plans of the Western Pacific

D. Recommendations on Management Measures for Aquaculture in the Western Pacific

E. Recommendations on Options for Exemptions from Federal Fishery Permits

F. Recommendations on Cooperative Research Projects

Schedule and Agenda for Marianas Archipelago Fishery Ecosystem Plan Regional Ecosystem Advisory Committee (CNMI REAC)

9 a.m. - 4 p.m. Tuesday, March 16, 2010

The CNMI REAC will meet to review progress on the 2009 REAC recommendations and to hear reports on, discuss and consider developing recommendations on the following upcoming 147th Council Meeting Actions:

A. Management Measures for Non-Commercial Fishing in the Marianas Trench Marine National Monument

B. Recommendations on Management Measures for Aquaculture in the Western Pacific

C. Recommendations on Cooperative Research Projects

In addition, the CNMI REAC will hear reports on, discuss and consider developing recommendations on CNMI Coral Reef Priority Setting Document, Micronesian Challenge meeting, Division of Fish and Wildlife biosampling program, tangison and atuhong in the Marianas, Mariana Archipelago lunar calendar and the status of the sea turtle recovery plan and funding. The REAC will also hear reports on the status of the CNMI bottomfish regulations and compliance, marine education and training program, Community Demonstration Projects Program, sanctuary scoping and outreach funding and other local issues.

Schedule and Agenda for SSC Meeting

8:30 a.m. - 5 p.m. Wednesday, March 17, 2010

1. Introductions

2. Approval of Draft Agenda and Assignment of Rapporteurs

3. Status of the 102nd SSC Meeting Recommendations

4. Report from the Pacific Islands Fisheries Science Center Director

5. Program Planning

A. ACLs Process-Ongoing Action

B. Data Workshop Report

C. Second National SSC Meeting Report

1. Catch Data Work Group Report

D. NOAA National Catch Shares Guidelines

E. Public Comment

F. Discussion and Recommendations

6. Insular Fisheries

A. Mariana Archipelago

1. Draft omnibus FEP amendment for non commercial fishing in the Marianas Trench, Rose Atoll, Pacific Remote Island Area Monuments

2. History of the Pelagic Fishing in the Marianas

B. Mariana Division of Fish & Wildlife reef fish life history investigations

C. American Samoa Archipelago

1. Tsunami Impacts on Nearshore Ecosystems

D. Hawaii Archipelago

1. Options for Refining Essential Fish Habitat for Main Hawaiian Islands Bottomfish

E. Insular Fishery Ecosystem Plan Team Recommendations

F. Public Comment

G. Discussion and Recommendations

8:30 a.m. - 5 p.m. Thursday, March 18, 2010

7. Pelagic Fisheries

A. Hawaii Longline Bigeye Tuna Management Under a Catch Limit

B. Options to modify Hawaii deep set tuna longline swordfish catch limit

C. Monitoring the dynamic changes of economic performance of the Hawaii Longline Fisheries

D. Addressing Hawaii Bigeye and Yellowfin Insular Populations

E. American Samoa and Hawaii Longline Quarterly Reports

F. Bigeye Tuna Catch Limit Monitoring

G. Bigeye Tuna Stock Assessment Review

H. International Fisheries/Meetings

1. Sixth Session of the Western and Central Pacific Fishery Commission

2. Eighth meeting to establish a North Pacific Regional Fishery Management Arrangement

I. Pelagic Plan Team Recommendations

J. Public Comment

K. Discussion and Recommendations

8. Protected Species

A. False Killer Whale Take Reduction Team Report

B. Monk Seal Recovery Team Meeting Report

C. Public Comment

D. Discussion and Recommendations

8:30 a.m. - 5 p.m. Friday March 19, 2010

9. Other Business

A. Coral Reef Fisheries Workshop

B. 104th SSC Meeting

10. Summary of SSC Recommendations to the Council

Schedule and Agenda for the Guam REAC Meeting

9 a.m. - 4 p.m. Thursday March 18, 2010

The Guam REAC will meet to hear reports on, discuss and consider developing recommendations on the following upcoming 147th Council Meeting Actions:

A. Management Measures for Non-Commercial Fishing in the Marianas Trench Marine National Monument

B. Recommendations on Management Measures for Aquaculture in the Western Pacific

C. Recommendations on Cooperative Research Projects

In addition, the Guam REAC will hear reports on and discuss Council comments on the Military buildup Draft Environmental Impact Statement, recommendations to the US Department of Defense on Military Activities, Green Sea Turtle Recovery Plan, Marine Spatial Planning, coral reef ecosystem threats, truth in science, Western and Central Pacific Fisheries Commission, indigenous Fishing Rights -- access to safe, healthy habitat for sustainable fishing, developing a community consultation process and community opportunities.

Schedule and Agenda for Mariana Archipelago Advisory Panel Meeting

9 a.m. - 5 p.m. Saturday March 20, 2010

The Mariana Archipelago Advisory Panel members will meet to review, discuss and consider recommendations on the following upcoming 147th Council Meeting Actions:

A. Management of Marianas Trench Marine National Monument Non-Commercial Fishing Measures

B. Recommendations on a Process for Establishing Annual Catch Limits

C. Recommendations on Management Measures for Aquaculture in the Western Pacific

D. Recommendations on Cooperative Research Projects

In addition, the AP will hear reports on the status of past fishery management actions, including purse seine Fish Aggregation Device (FAD) amendment, longline and purse seine area closure and CNMI Bottomfish permit and reporting. Other issues to be discussed will include military activities in the Mariana archipelago, coral reef Local Action Strategy (LAS) priority setting, indigenous fishing rights, NMFS biosampling program, UOG fish life history studies, fishery agency reports, green sea turtle Endangered Species Act recovery criteria and emerging fishery issues.

Schedule and Agenda for Guam Student Symposium

9 a.m. - 4 p.m. Saturday March 20, 2010

The Student Symposium will include presentations on the High School Summer Courses in the Marianas and highlights of the Hawaii and American Samoa courses and videos. Students will be able to participate in an “open house” booth session that will feature information on the Council, traditional fisheries in the Marianas, local fishery agency programs, educational opportunities for students, and fisheries role in the community.

Schedule and Agenda for 147th Council Meeting

147th Council Meeting, Fiesta Resort & Spa, Saipan

Sunday, March 21, 2010 - 2 p.m. - 4 p.m.

Executive and Budget Standing Committee Meeting

Monday, March 22, 2010 - 8:30 p.m. - 5 p.m.

1. Opening Ceremony

2. Introductions

3. Approval of Agenda

4. Approval of the 146th Meeting Minutes

5. Executive Director's Report

6. Agency Reports

A. National Marine Fisheries Service

1. Pacific Islands Regional Office

2. Pacific Islands Fisheries Science Center

B. NOAA Regional Counsel

C. U.S. Fish and Wildlife Service

D. Enforcement

1. U.S. Coast Guard

2. NMFS Office for Law Enforcement

3. NOAA GC for Enforcement and Litigation

4. National Marine Sanctuaries Program

7. Marianas Archipelago

A. Arongo flaeey

B. Legislative Report

C. Enforcement Issues

D. Action Items

1. Recommendations on Management Measures for Non-Commercial Fishing in the Marianas Trench Marine National Monument

E. Community Activities and Issues

1. Economic Stimulus

2. Report on Student Symposium

3. Report on Marianas Community Workshop

F. Update on Military Activities

1. Marianas Islands Range Complex

2. Military Build up

G. NMFS PIRO CNMI Sea Turtle Coordinator Report

H. Education and Outreach Initiatives

I. Marianas Fishery Ecosystem Plan (FEP)-CNMI Advisory Panel Recommendations

J. Marianas FEP-CNMI Plan Team Recommendations

K. Marianas FEP-CNMI REAC Recommendations

L. SSC Recommendations

M. Public Hearing

N. Council Discussion and Action

8. American Samoa Archipelago

A. Motu Lipoti

B. Fono Report

C. Enforcement Issues

D. Action Items

1. Recommendations on Management Measures for Non-Commercial Fishing in the Rose Atoll Marine National Monument

E. Community Activities and Issues

1. Economic Recovery and Stimulus

2. Disaster Relief

F. Education and Outreach Initiatives

G. American Samoa Plan Team Recommendations

H. SSC Recommendations

I. Public Hearing

J. Council Discussion and Action

6 p.m. - 9 p.m. Fishers Forum - Fishermen as Scientists

Tuesday, March 23, 2010 - 9 a.m. - 5 p.m.

9. Program Planning and Research

A. Action Items

1. Recommendations on a Process for Establishing Annual Catch Limits

2. Recommendations on Management Measures for Non-commercial Fishing in the PRI Marine National Monument

3. Recommendation on Framework Measures for Fishery Ecosystem Plans of the Western Pacific

4. Recommendations on Management Measures for Aquaculture in the Western Pacific

5. Recommendations on Management Measures for Hancock Seamount

6. Recommendations on Options for Exemptions from Federal Fishery Permits

B. Report on Western Pacific Fishery Data Workshop

C. Report on Joint AP Meeting

D. NOAA Draft Catch Shares Policy

E. National Ocean Policy and Marine Spatial Planning

F. Local, National & International Education and Outreach Initiatives

G. Hawaii Plan Team Recommendations on PRIA Monument

H. SSC Recommendations

I. Public Hearing

J. Council Discussion and Action

10. Public Comment on Non-Agenda Items

147th Council Meeting, Guam Hilton, Guam

Thursday, March 25, 2010 - 9 a.m. - 5 p.m.

11. Opening Ceremony

12. Introductions

Guest Speaker: TBA

13. Marianas Archipelago - Guam

A. Isla Informe

B. Legislative Report

C. Enforcement Issues

D. Action Items

1. Recommendations on Management Measures for Non-Commercial Fishing in the Marianas Trench Monument

E. Community Activities and Issues

1. Report on Student Symposium

2. Report on Marianas Community Workshop

F. Education and Outreach Initiatives

G. Marianas FEP-Guam Advisory Panel Recommendations

H. Marianas FEP-Guam Plan Team Recommendations

I. Marianas FEP-Guam REAC Recommendations

J. SSC Recommendations

K. Public Hearing

L. Council Discussion and Action

14. Pelagic & International Fisheries

A. Action Items

1. Recommendations on Hawaii Longline Bigeye Tuna Management Under a Catch Limit

2. Recommendations on Options to Modify the Hawaii Deep-set Tuna Longline Swordfish Fishery Catch Limit

3. Recommendations on Modifications to the American Samoa Longline Limited Entry Program

B. Review of Pacific Bigeye Tuna Stock Assessment

C. International Fisheries

1. 5th International Fishers Forum (IFF5)

2. Western Central Pacific Fisheries Commission

D. Protected Species

1. Japan Sea Turtle Community Network

2. False Killer Whale Take Reduction Team Workshop Report

3. Monk Seal Recovery Team Meeting Report

E. Pacific Pelagic Advisory Panel Recommendations for the Marianas

F. Pelagic Plan Team Recommendations

G. SSC Recommendations

H. Public Hearing

I. Council Discussion and Action

15. Public Comment on Non-Agenda Items

6 p.m. - 9 p.m. - Fishers Forum

Friday, March 26, 2010 - 9 a.m. - 5 p.m.

16. Hawaii Archipelago

A. Moku Pepa

B. Legislative Report

C. Enforcement Issues

D. Action Items

1. Recommendations on Options for Refining Essential Fish Habitat for the MHI Bottomfish Fishery

E. Community Activities and Issues

1. Economic Stimulus

F. SSC Recommendations

G. Public Comment

H. Council Discussion and Action

17. Administrative Matters

A. Financial Reports

B. Administrative Reports

C. Standard Operating Procedures and Practices Review and Changes

D. Meetings and Workshops

E. Other Business

F. Standing Committee Recommendations

G. Public Comment

H. Council Discussion and Action

18. Other Business

Non-Emergency issues not contained in this agenda may come before the Council for discussion and formal Council action during its 147th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 22, 2010.
Tracey L. Thompson,
Acting Director, Office of Sustainable Fisheries, National Marine Fisheries Service.

[FR Doc. 2010-3806 Filed 2-24-10; 8:45 am]

BILLING CODE 3510-22-S